DEPARTMENT OF COMMERCE

International Trade Administration

[A-570-001]

Potassium Permanganate From the People's Republic of China: Rescission of 2018 Antidumping Duty Administrative Review

AGENCY: Enforcement and Compliance, International Trade Administration, Department of Commerce.

SUMMARY: The Department of Commerce (Commerce) is rescinding the administrative review of the antidumping duty order on potassium permanganate from the People's Republic of China (China) for the period of review (POR), January 1, 2018, through December 31, 2018.

DATES: Applicable June 12, 2019.

FOR FURTHER INFORMATION CONTACT: Omar Qureshi, AD/CVD Operations, Office V, Enforcement and Compliance, International Trade Administration, U.S. Department of Commerce, 1401 Constitution Avenue NW, Washington, DC 20230; telephone: 202-482-5307.

SUPPLEMENTARY INFORMATION:

Background

On February 8, 2019, Commerce published in the Federal Register a notice of opportunity to request an administrative review of, among other orders, the antidumping duty order on potassium permanganate from China for the POR, January 1, 2018, to December 31, 2018.¹ On February 28, 2019, Pacific Accelerator Limited (PAL) and its affiliate Chongqing Changyuan Group Limited (Chongqing Changyuan Chemical Corporation Limited (Changyuan) filed a timely request for review, in accordance with 751(a) of the Tariff Act of 1930, as amended (the Act).² On April 1, 2019, based on this request and accordance with section 751(a) of the Act, Commerce published in the Federal Register a notice of initiation of an administrative review of the antidumping duty order on potassium permanganate from China, covering the POR.³ On May 3, 2019, PAL and Changyuan timely withdrew their request for administrative review.⁴

¹ See Antidumping or Countervailing Duty Order, Finding, or Suspended Investigation; Opportunity to Request Administrative Review, 84 FR 2816 (February 8, 2019).

² See letter from PAL and Changyuan, “Request for Administrative Review of the Antidumping Duty Order on Potassium Permanganate from the People's Republic of China,” dated February 28, 2019.

³ See Initiation of Antidumping and Countervailing Duty Administrative Reviews, 84 FR 12200 (April 1, 2019).

⁴ See letter from PAL, “Pacific Accelerator Limited's Withdrawal of Request for Review: Administrative Review of the Antidumping Duty Order on Potassium Permanganate from the People's Republic of China,” dated May 3, 2019; see also letter from Changyuan, “Chongqing Changyuan Group Limited's Withdrawal of Request for Review, Administrative Review of the Antidumping Duty Order on Potassium Permanganate from the People's Republic of China,” dated May 3, 2019.

Rescission of Review

Pursuant to 19 CFR 351.213(d)(1), the Secretary will rescind an administrative review, in whole or in part, if the party that requested the review withdraws its request within 90 days of the date of publication of the notice of initiation of the requested review. PAL and Changyuan were the only respondents party to this review. As noted above, PAL and Changyuan withdrew their requests for review by the 90-day deadline. Commerce received no other requests for review of PAL and Changyuan or with respect to any other companies. As a result, Commerce is rescinding the administrative review of potassium permanganate from China covering the POR in its entirety.

Assessment

We will instruct U.S. Customs and Border Protection (CBP) to assess antidumping duties on all appropriate entries. Because Commerce is rescinding this administrative review in its entirety, the entries to which this administrative review pertained shall be assessed antidumping duties at rates equal to the cash deposit of estimated antidumping duties required at the time of entry, or withdrawal from warehouse, for consumption, in accordance with 19 CFR 351.212(c)(1)(i). Commerce intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act and 19 CFR 351.213(d)(4).

Dated: June 6, 2019.
James Maeder,
Associate Deputy Assistant Secretary for Antidumping and Countervailing Duty Operations.

[FR Doc. 2019-12393 Filed 6-11-19; 8:45 am]

BILLING CODE 3510-DS-P